DEPARTMENT OF THE INTERIOR

Fish and Wildlife Service

Availability of a Draft Environmental Assessment for Federal Agency Participation in the Virgin River Resource Management and Recovery Program

AGENCY: Fish and Wildlife Service, Interior.

ACTION: Notice of availability.

SUMMARY: This notice advises the public that the Draft Environmental Assessment (DEA) for Federal agency participation in the Virgin River Resource Management and Recovery Program (Program) is available for public review and comment. The purpose of the proposed Federal action described in the DEA is to formally declare the intent of the Fish and Wildlife Service, Bureau of Land Management, and National Park Service to participate in the multi-agency program designed to implement recovery actions for two endangered fish species, the woundfin and the Virgin River chub, as well as conservation actions for the Virgin spinedace, as species being managed as sensitive by the State of Utah and subject of a Conservation Agreement. In addition to implementing recovery actions, the Program facilitates resolution of conflicts between endangered species protection and water development in the Virgin River Basin in Utah. Other participants include the State of Utah Department of Natural Resources, Washington County Water Conservancy District, and Grand Canyon Trust, a local non-profit, environmental conservation group.

DATES: Written comments should be received on or before October 30, 2000, to be considered. In addition, an open house will be held on Thursday, September 21, 2000, beginning at 7 p.m. MST, at the Bureau of Land Management Office, 345 East Riverside Drive, St. George, Utah. Program participants will be available to provide information on the Program and answer questions from the public. Copies of the DEA will be mailed to affected government offices and interested parties who specifically requested it. The DEA also is available for viewing or downloading at http://mountain-prairie.fws.gov/nepa/VirginRiver. Those interested persons not on the DEA mailing list may view or download from the internet or may request a copy from the Project Leader at the address below. All interested agencies and individuals are urged to provide comments and suggestions regarding the DEA for our review prior to completion of a final finding. All comments received by October 30 will be considered in our final determination whether to prepare an Environmental Impact Statement or a Finding of No Significant Impact on Federal agency participation in the Virgin River Resource Management and Recovery Program.

All comments received will become part of the official public record. Requests for such comments will be handled in accordance with the Freedom of Information Act and the Council on Environmental Quality's National Environmental Policy Act Regulations (40 CFR 1506.6). When requested, comment letters with the names and addresses of the individuals who wrote the comments will generally be provided in response to such requests to the extent permissible by law. Individual respondents may request that we withhold their home address from the record, which we will honor to the extent allowable by law. If you wish to withhold your name and/or address, you must state this prominently at the beginning of your comments.

ADDRESSES: Written comments should be addressed to the Field Supervisor, Utah Ecological Services Field Office, Lincoln Plaza, 145 East 1300 South State Street, Suite 404, Salt Lake City, Utah 84115. Electronic (e-mail) comments also may be submitted to: FW6_VirginRiver@fws.gov. All comments and materials received will be available upon request for public inspection, by appointment, during normal business hours at the above address.

FOR FURTHER INFORMATION CONTACT: Mr. Reed E. Harris, Utah Field Supervisor (see ADDRESSES above), at 801-524-5001, extension 126.

SUPPLEMENTARY INFORMATION:

Background

The woundfin was listed as endangered on October 13, 1970 (35 FR 16047). The Virgin River chub was listed as endangered on August 24, 1989 (54 FR 35305). The Virgin River Fishes Recovery Plan (VRFRP), which included recovery of both woundfin and Virgin River chub, was finalized in 1995. Critical Habitat was designated for these two species on January 26, 2000 (65 FR 4140). The Virgin spinedace was proposed for listing as endangered on May 18, 1994 (59 FR 25875). The Virgin Spinedace Conservation Agreement and Strategy (VSCA) to eliminate or reduce impacts threatening the continued existence of Virgin spinedace was finalized on April 11, 1995, and, subsequently, the proposal to list was withdrawn on February 6, 1996 (61 FR 44010). All three of these fish species are endemic to the Virgin River Basin through Utah, Arizona, and Nevada. The southwestern willow flycatcher is a neo-tropical migratory bird listed as endangered on February 27, 1995 (60 FR 10693) that seasonally occupies sites along the Virgin River and throughout the Desert Southwest. In addition, the Virgin River Basin retains a diversity of native desert animal and plant species, many of which are declining due to impacts from human development in the area.

Despite Federal listing of the two fish species, implementation of recovery actions in the Virgin River to benefit endangered fish have been minimal due to limited funding for recovery over the past 25 years. Furthermore, conflicts have arisen between water development interests and those managing for protection of native species that rely on the river environment. Specifically, contention between the local environmental community and local water developers over operations of the Quail Creek Diversion in the Virgin River near Hurricane, Utah, led to discordant relations and threats of litigation among the agencies and organizations interested in water use.

To resolve this situation, the interested entities agreed to develop the Virgin River Resource Management and Recovery Program that would provide a mechanism to prioritize, fund, and implement recovery actions while allowing water development necessary to meet human needs in the Utah portion of the Virgin River Basin. It is anticipated that the Program will not only provide recovery actions that are necessary to offset impacts from proposed development actions to the native protected species, but further lead to full recovery of the endangered fish species, conservation of the Virgin spinedace, as well as provide benefits to the endangered southwestern willow flycatcher.

The Program will encompass the VRFRP and the VSCA so that actions identified in these documents can be funded, implemented, and evaluated for effectiveness. In addition, the Program will provide measures to offset proposed Federal project impacts during Section 7 consultations in order to prevent future conflict over water development and minimize impacts of Federal projects on protected aquatic species. Goals and objectives of the Program are based on recovery of the endangered fish and conservation of Virgin spinedace in an environment of continuing water development. Although some impacts to native species are expected through future water development projects, recovery actions have been and will continue to be implemented in advance of project impacts such that the status of species and/or its habitat is expected to improve and remain greater than that necessary to offset anticipated impacts. A crediting system has been developed to assess, measure, and track benefits and impacts of projects, and is designed to maintain measured benefits at a higher level than impacts so that the Program is always moving towards recovery and conservation of protected species.

Although participation is limited to Utah portions of the Virgin River Basin at this time, it is expected that the remaining portions of the Virgin River Basin in Arizona and Nevada will be invited to participate in the Program in future years as it becomes better established and demonstrates effectiveness.

It is important to note that participation in this Program does not represent or guarantee legal authority for any water development project. Such projects must be evaluated individually as they are proposed and continue to be subject to all applicable Federal and State laws including NEPA and ESA. This DEA is not intended to provide analysis for specific project impacts, but rather analyzes only effects of Federal participation in the Program.

Author: The primary author of this notice is Yvette K. Converse, U.S. Fish and Wildlife Service, 145 East 1300 South State Street, Suite 404, Salt Lake City, Utah 84115 (801-524-5001, extension 135).

Authority

The authorities for this action are the National Environmental Policy Act of 1969 (42 U.S.C. 4321 et seq.) and the Endangered Species Act of 1973 (16 U.S.C. 1532 et seq.)

Dated: September 15, 2000.
Spencer F. Conley,
Regional Director, Denver, Colorado.

[FR Doc. 00-24250 Filed 9-20-00; 8:45 am]

BILLING CODE 4310-55-P